DEPARTMENT OF ENERGY

Federal Energy Regulatory Commission

Combined Notice of Filings #1

Take notice that the Commission received the following electric corporate filings:

Docket Numbers: EC19-80-000.

Applicants: Emera Maine, Maine Electric Power Company, Maine Yankee Atomic Power Company.

Description: Application for Authorization Under Section 203 of the Federal Power Act, et al. of Emera Maine, et al.

Filed Date: 4/24/19.

Accession Number: 20190424-5247.

Comments Due: 5 p.m. ET 5/15/19.

Take notice that the Commission received the following exempt wholesale generator filings:

Docket Numbers: EG19-94-000.

Applicants: Oberon Solar IA, LLC.

Description: Notice of Self-Certification of Exempt Wholesale Generator Status of Oberon Solar IA, LLC.

Filed Date: 4/24/19.

Accession Number: 20190424-5186.

Comments Due: 5 p.m. ET 5/15/19.

Take notice that the Commission received the following electric rate filings:

Docket Numbers: ER19-263-002.

Applicants: AMP Transmission, LLC, PJM Interconnection, L.L.C.

Description: Compliance filing: AMPT's Compliance Filing Pursuant to March 26, 2019 Order re: H-32A and H-32B to be effective 1/1/2019.

Filed Date: 4/25/19.

Accession Number: 20190425-5084.

Comments Due: 5 p.m. ET 5/16/19.

Docket Numbers: ER19-1270-001.

Applicants: Midcontinent Independent System Operator, Inc.

Description: Tariff Amendment: 2019-04-25_SA 3264 Brown Valley Conductor Clearance Sub MPFCA (J488 J493 J526) to be effective 5/13/2019.

Filed Date: 4/25/19.

Accession Number: 20190425-5133.

Comments Due: 5 p.m. ET 5/16/19.

Docket Numbers: ER19-1668-000.

Applicants: Northern Indiana Public Service Company.

Description: § 205(d) Rate Filing: Filing of a CIAC Agreement to be effective 4/19/2019.

Filed Date: 4/24/19.

Accession Number: 20190424-5182.

Comments Due: 5 p.m. ET 5/15/19.

Docket Numbers: ER19-1669-000.

Applicants: Grande Prairie Wind, LLC.

Description: § 205(d) Rate Filing: Grande Prairie Wind, LLC MBR Tariff Amendments to be effective 6/24/2019.

Filed Date: 4/24/19.

Accession Number: 20190424-5183.

Comments Due: 5 p.m. ET 5/15/19.

Docket Numbers: ER19-1670-000.

Applicants: Marshall Wind Energy LLC.

Description: § 205(d) Rate Filing: Marshall Wind MBR Tariff Amendment Filing to be effective 6/24/2019.

Filed Date: 4/24/19.

Accession Number: 20190424-5184.

Comments Due: 5 p.m. ET 5/15/19.

Docket Numbers: ER19-1671-000.

Applicants: CalEnergy, LLC.

Description: § 205(d) Rate Filing: CalEnergy MBR Tariff Amendment Filing to be effective 6/24/2019.

Filed Date: 4/24/19.

Accession Number: 20190424-5185.

Comments Due: 5 p.m. ET 5/15/19.

Docket Numbers: ER19-1672-000.

Applicants: Southwest Power Pool, Inc.

Description: § 205(d) Rate Filing: 1148R25 American Electric Power NITSA and NOA to be effective 4/1/2019.

Filed Date: 4/25/19.

Accession Number: 20190425-5036.

Comments Due: 5 p.m. ET 5/16/19.

Docket Numbers: ER19-1673-000.

Applicants: Midcontinent Independent System Operator, Inc., Union Electric Company.

Description: § 205(d) Rate Filing: 2019-04-25_SA 2015_Ameren-City of Jackson 3rd Rev WDS to be effective 4/1/2019.

Filed Date: 4/25/19.

Accession Number: 20190425-5060.

Comments Due: 5 p.m. ET 5/16/19.

Docket Numbers: ER19-1675-000.

Applicants: Ohio Power Company, AEP Ohio Transmission Company, Inc., PJM Interconnection, L.L.C.

Description: § 205(d) Rate Filing: AEP Ohio submits ILDSA, Service Agreement No. 1430 and City of Wapakoneta FA to be effective 4/25/2019.

Filed Date: 4/25/19.

Accession Number: 20190425-5062.

Comments Due: 5 p.m. ET 5/16/19.

Docket Numbers: ER19-1676-000.

Applicants: Virginia Electric and Power Company.

Description: Compliance filing: Chesapeake—Deactivation of Certain Units to be effective N/A.

Filed Date: 4/25/19.

Accession Number: 20190425-5102.

Comments Due: 5 p.m. ET 5/16/19.

Docket Numbers: ER19-1677-000.

Applicants: Coyanosa Gas Services Corporation.

Description: § 205(d) Rate Filing: Coyanosa Gas Services Corp Notice of Succession Filing to be effective 4/25/2019.

Filed Date: 4/25/19.

Accession Number: 20190425-5103.

Comments Due: 5 p.m. ET 5/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2019.
Nathaniel J. Davis, Sr.,
Deputy Secretary.

[FR Doc. 2019-08833 Filed 4-30-19; 8:45 am]

BILLING CODE 6717-01-P